ENVIRONMENTAL PROTECTION AGENCY

40 CFR Parts 61 and 63

[FRL-7223-4]

Approval of the Clean Air Act, Section 112(l), Delegation of Authority to the Oregon Department of Environmental Quality and Lane Regional Air Pollution Authority

AGENCY: Environmental Protection Agency (EPA).

ACTION: Proposed rule.

SUMMARY: The Environmental Protection Agency, Region 10 (EPA) is proposing to approve the Oregon Department of Environmental Quality's (ODEQ) request, on behalf of itself and the Lane Regional Air Pollution Control Authority (LRAPA), program approval and delegation of authority to implement and enforce certain National Emission Standards for Hazardous Air Pollutants (NESHAPs).

Pursuant to the authority of section 112(l) of the Act, this proposed approval is based on EPA's finding that state law, regulations, and agency resources meet the requirements for program approval and delegation of authority specified in regulations pertaining to the criteria for delegation common to all approval options, and in applicable EPA guidance (see 40 CFR 60.91).

This delegation would acknowledge ODEQ and LRAPA's ability to implement a NESHAP program and to transfer primary implementation and enforcement responsibility from EPA to ODEQ and LRAPA. Although EPA would look to ODEQ and LRAPA as the leads for implementing the delegated NESHAPs in their respective jurisdictions, EPA retains authority under section 113 of the Act to enforce any applicable emission standard or requirement, if needed.

In the Final Rules section of this Federal Register, the EPA is publishing its approval as a direct final rule without prior proposal because the Agency views this as a non-controversial determination and anticipates no adverse comments. A detailed rationale for the approval is set forth in the direct final rule. If no adverse comments are received in response to this action, no further activity is contemplated.

If the EPA receives adverse comments, the direct final rule will be withdrawn and all public comments received will be addressed in a subsequent final rule based on this proposed rule. The EPA will not institute a second comment period. Any parties interested in commenting on this action should do so at this time.

DATES: Written comments must be received on or before July 10, 2002.

ADDRESSES: Written comments should be submitted to Jeff KenKnight, Manager, Federal and Delegated Air Programs Unit, Office of Air Quality (OAQ-107), U.S. Environmental Protection Agency, Region 10, 1200 Sixth Avenue, Seattle, Washington 98101, (206) 553-6641.

Copies of delegation requests and other supporting documentation are available for public inspection during normal business hours at the U.S. Environmental Protection Agency, Region 10, 1200 Sixth Avenue, Seattle, Washington 98101. Interested persons wanting to examine these documents should make an appointment with the appropriate office at least 24 hours before the visiting day.

FOR FURTHER INFORMATION CONTACT: Jeff KenKnight, Manager, Federal and Delegated Air Programs Unit, Office of Air Quality (OAQ-107), U.S. Environmental Protection Agency, Region 10, 1200 Sixth Avenue, Seattle, Washington 98101, (206) 553-6641.

SUPPLEMENTARY INFORMATION: For additional information, see the Direct Final rule which is located in the Rules section of this Federal Register.

Dated: May 24, 2002.
Ronald A. Kreizenbeck,
Acting Regional Administrator, Region 10.

[FR Doc. 02-13975 Filed 6-7-02; 8:45 am]

BILLING CODE 6560-50-P